ENVIRONMENTAL PROTECTION AGENCY

[OPP-00689; FRL-6757-6]

State FIFRA Issues Research and Evaluation Group (SFIREG) Working Committee on Pesticide Operations & Management; Notice of Public Meeting

AGENCY: Environmental Protection Agency (EPA).

ACTION: Notice of public meeting.

SUMMARY: The State FIFRA Issues Research and Evaluation Group (SFIREG) Working Committee on Pesticide Operations & Management will hold a 2-day meeting, beginning on December 4, 2000, and ending on December 5, 2000. This notice announces the location and times for the meeting and sets forth the tentative agenda topics.

DATES: The meeting will be held on Monday, December 4, 2000 from 8:30 a.m. to 5 p.m. to Friday, December 5, 2000, from 8:30 a.m. to 12:00 noon.

ADDRESSES: The meeting will be held at The Doubletree Hotel, 300 Army Navy Drive, Arlington - Crystal City, VA.

FOR FURTHER INFORMATION CONTACT: Philip H. Gray, SFIREG Executive Secretary, P.O. Box 1249, Hardwick, VT 05843-1249; telephone number: (802) 472-6956; fax: (802) 472-6957; e-mail address: aapco@plainfield.bypass.com or, Georgia A. McDuffie, Field and External Affairs Division (7506C), Office of Pesticide Programs, Environmental Protection Agency, 1200 Pennsylvania Ave., NW., Washington, DC 20460; telephone number: (703) 605-0195; fax number: (703) 308-1850; e-mail address: McDuffie.Georgia@epa.gov.

SUPPLEMENTARY INFORMATION:

I. Does this Action Apply to Me?

This action is directed to the public in general. This action may, however, be of interest to all parties interested in SFIREG's information exchange relationship with EPA regarding important issues related to human health, environmental exposure to pesticides, and insight into EPA's decision-making process are invited and encouraged to attend the meetings and participate as appropriate. Since other entities may also be interested, the Agency has not attempted to describe all the specific entities that may be affected by this action.

If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. Philip H. Gray, SFIREG Executive Secretary, P.O. Box 1249, Hardwick, VT 05843-1239.

III. Tentative Agenda:

1. USDA-APHIS Wildlife Services' Proposal for Specific Pesticide Certification and Training Program

2. Worker Protection Standard Activities Update

3. National Pesticide Data Improvement Workgroup Report

4. Management of Biotech Pesticide Products

5. SFIREG Issue Paper Status Report

6. Regional Reports

7. Committee Reports and Introductions of Issue Papers

8. Other Topics as appropriate

List of Subjects

Environmental protection.

Dated: November 20, 2000.
Jay Ellenberger,
Acting Director, Field and External Affairs Division, Office of Pesticide Programs.

[FR Doc. 00-30092 Filed 11-21-00; 12:53 pm]

BILLING CODE 6560-50-S